DEPARTMENT OF TRANSPORTATION

Federal Aviation Administration

14 CFR Part 39

[Docket No. FAA-2004-19676; Directorate Identifier 2004-NM-138-AD; Amendment 39-14717; AD 2006-16-17]

RIN 2120-AA64

Airworthiness Directives; Empresa Brasileira de Aeronautica S.A. (EMBRAER) Model EMB-135BJ, -135ER, -135KE, -135KL, and -135LR Airplanes; and Model EMB-145, -145ER, -145MR, -145LR, -145XR, -145MP, and -145EP Airplanes

AGENCY: Federal Aviation Administration (FAA), Department of Transportation (DOT).

ACTION: Final rule.

SUMMARY: The FAA is adopting a new airworthiness directive (AD) for certain EMBRAER Model EMB-135 and -145 series airplanes. This AD requires determining the torque values of the screws that attach the seat tracks to the airplane, and corrective action if necessary. This AD results from a report of undertorqued screws. We are issuing this AD to prevent improper torque of those screws, which in the case of a hard landing or a high deceleration impact condition could result in damage to the seat and possible subsequent injury to the passenger.

DATES: This AD becomes effective September 25, 2006.

The Director of the Federal Register approved the incorporation by reference of certain publications listed in the AD as of September 25, 2006.

ADDRESSES: You may examine the AD docket on the Internet at http://dms.dot.gov or in person at the Docket Management Facility, U.S. Department of Transportation, 400 Seventh Street, SW., Nassif Building, Room PL-401, Washington, DC.

Contact Empresa Brasileira de Aeronautica S.A. (EMBRAER), P.O. Box 343-CEP 12.225, Sao Jose dos Campos—SP, Brazil, for service information identified in this AD.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a supplemental notice of proposed rulemaking (NPRM) to amend 14 CFR part 39 to include an AD that would apply to certain EMBRAER Model EMB-135 and -145 series airplanes. That supplemental NPRM was published in the Federal Register on May 26, 2006 (71 FR 30343). That supplemental NPRM proposed to require determining the torque values of the screws that attach the seat tracks to the airplane, and corrective action if necessary.

Comments

We provided the public the opportunity to participate in the development of this AD. No comments have been received on the supplemental NPRM or on the determination of the cost to the public.

Conclusion

We have carefully reviewed the available data and determined that air safety and the public interest require adopting the AD as proposed in the supplemental NPRM.

Costs of Compliance

The following table provides the estimated costs for U.S. operators to comply with this AD. This AD will affect about 539 airplanes of U.S. registry.

Estimated Costs
EMBRAER model airplane(s) | Work hours | Average labor rate/hour | Parts | Cost/airplane
EMB-135 BJ | 24 | $80 | Minimal | $1,920
Others | 28 | 80 | Minimal | 2,240

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-16-17 Empresa Brasileira de Aeronautica S.A. (EMBRAER): Amendment 39-14717. Docket No. FAA-2004-19676; Directorate Identifier 2004-NM-138-AD.

Effective Date

(a) This AD becomes effective September 25, 2006.

Affected ADs

(b) None.

Applicability

(c) This AD applies to EMBRAER Model EMB-135BJ, -135ER, -135KE, -135KL, and -135LR airplanes; and EMB-145, -145ER, -145MR, -145LR, -145XR, -145MP, and -145EP airplanes; certificated in any category; as identified in EMBRAER Service Bulletin 145LEG-53-0015, Revision 02, dated May 19, 2005, or 145-53-0049, Revision 03, dated August 10, 2005.

Unsafe Condition

(d) This AD was prompted by a report indicating that some screws that attach the passenger seat tracks were undertorqued. We are issuing this AD to prevent improper torque of those screws, which in the case of a hard landing or a high deceleration impact condition could result in damage to the seat and possible subsequent injury to the passenger.

Compliance

(e) You are responsible for having the actions required by this AD performed within the compliance times specified, unless the actions have already been done.

Inspection

(f) Within 5,000 flight hours or 36 months after the effective date of this AD, whichever occurs first, determine the torque values of the applicable screws that attach the seat tracks to the airplane. Use the Accomplishment Instructions of EMBRAER Service Bulletin 145LEG-53-0015, Revision 02, dated May 19, 2005 (for Model EMB-135BJ airplanes), or Service Bulletin 145-53-0049, Revision 03, dated August 10, 2005 (for the remaining airplanes). For any screw that has a torque value outside the limits specified in the service bulletin: Before further flight, retorque the screw in accordance with the Accomplishment Instructions of the service bulletin. Although the service bulletins recommend applying torque seal to the heads of the screws, this AD does not require that action.

Actions Accomplished According to Previous Issues of Service Bulletins

(g) Actions accomplished according to the applicable service bulletin listed in Table 1 of this AD are considered acceptable for compliance with the corresponding actions specified in this AD.

Table 1.—Acceptable Service Bulletins
EMBRAER Service Bulletin | Revision | Date
145LEG-53-0015 | 01 | September 1, 2004.
145-53-0049 | 01 | September 1, 2004.
| 02 | November 26, 2004.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(i) Brazilian airworthiness directive 2004-05-03R1, effective September 16, 2005, also addresses the subject of this AD.

Material Incorporated by Reference

(j) You must use the service bulletins identified in Table 2 of this AD to perform the actions that are required by this AD, unless the AD specifies otherwise.

Table 2.—Material Incorporated by Reference
EMBRAER Service Bulletin | Revision level | Date
145-53-0049 | 01 | September 1, 2004.
145-53-0049 | 02 | November 26, 2004.
145-53-0049 | 03 | August 10, 2005.
145LEG-53-0015 | 01 | September 1, 2004.
145LEG-53-0015 | 02 | May 19, 2005.

EMBRAER Service Bulletin 145LEG-53-0015, Revision 02, dated May 19, 2005, contains the following effective pages:

Page Nos. | Revision level shown on page | Date shown on page
1 | 02 | May 19, 2005.
2-8 | 01 | September 1, 2004.

The Director of the Federal Register approved the incorporation by reference of these documents in accordance with 5 U.S.C. 552(a) and 1 CFR part 51. Contact Empresa Brasileira de Aeronautica S.A. (EMBRAER), P.O. Box 343—CEP 12.225, Sao Jose dos Campos—SP, Brazil, for a copy of this service information. You may review copies at the Docket Management Facility, U.S. Department of Transportation, 400 Seventh Street, SW., Room PL-401, Nassif Building, Washington, DC; on the Internet at http://dms.dot.gov; or at the National Archives and Records Administration (NARA).

For information on the availability of this material at the NARA, call (202) 741-6030, or go to http://www.archives.gov/federal_register/code_of_federal_regulations/ibr_locations.html.

Issued in Renton, Washington, on August 3, 2006.
Ali Bahrami,
Manager, Transport Airplane Directorate, Aircraft Certification Service.

[FR Doc. E6-13653 Filed 8-18-06; 8:45 am]

BILLING CODE 4910-13-P